DEPARTMENT OF HOUSING AND URBAN DEVELOPMENT

[Docket No. FR-7001-N-63]

30-Day Notice of Proposed Information Collection: HUD Technical Assistance Assessment

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: March 13, 2019.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 27, 2018 at 83 FR 48859.

A. Overview of Information Collection

Title of Information Collection: HUD Technical Assistance Assessment.

OMB Approval Number: 2528—New.

Type of Request: News.

Form Number: No forms.

Description of the need for the information and proposed use: HUD is conducting this study under cooperative agreement with the Urban Institute to assess its Technical Assistance (TA) programs under the Community Compass structure. HUD TA enables housing and community development providers to be more effective stewards of HUD funding by equipping them with the knowledge, skills and tools to better manage HUD programs. TA is provided by TA providers funded by HUD and includes tools and product development, help desk support, on-call TA, direct TA and capacity building, and needs assessments, among other types.

Recipients of TA include State and local governments, Tribes, Tribally-Designated Housing Agencies, Public Housing Authorities (PHAs), participating jurisdictions, housing counseling agencies, multifamily owners/operators, nonprofit organizations, and Continuums of Care (CoCs). In 2002, the GAO evaluated HUD's existing TA programs, and recommended that HUD streamline and coordinate its TA programs and request its TA providers to establish performance measures and report on their intended outputs and outcomes. Since then, HUD has made significant changes to the structure, implementation, and data systems used in administering its TA programs. Beginning with the Fiscal Year (FY) 2010 Technical Assistance and Capacity Building NOFA issued by the Office of Community Development and Planning, and the announcement of the OneCPD Integrated Practitioner Assistance System, the “Transformation Initiative”, HUD began to shift from a more siloed program-specific approach to TA to a more coordinated funding and collaborative TA processes across programs. Changes continued with the integration of Office of Public and Indian Housing TA programs in FY 2013 through OneCPD+ and finally in FY 2014 with the addition of two more TA funding streams to form Community Compass. Now there is a unified NOFA process for all programs included in Community Compass, along with data and coordination improvements, and streamlined online assistance and resource pages. This will be the first assessment of these and other changes made to HUD TA in response to GAO recommendations. This project helps fill the gap in understanding HUD's TA delivery system since Community Compass began in FY 2014. The Urban Institute is conducting an assessment focused on answering three research questions: (1) What TA does HUD provide, (2) how does HUD provide TA, and (3) how effective is HUD TA? To answer these three questions, this study will include in-depth interviews with TA providers and TA customers to supplement interviews completed during the design of the research.

TA providers play a central role in navigating the Community Compass process and implementing TA activities. To gain insights into how providers engage in TA through Community Compass, we plan to conduct 5 group interviews that will target front-line TA staff and subcontractors that deliver the TA. This project will also interview customers receiving TA under the Community Compass. To better understand the customer experience, we will conduct interviews with key staff at organizations that received TA. Out of these interviews, the Urban Institute will create a final report to HUD on the answers to the above research questions. The findings in the final report will inform HUD's future delivery of TA under the Community Compass structure.

Respondents: The interviews will involve the following total numbers of respondents by type: 40 TA provider directors and managers and 25 TA customer chief executives.

Estimation of total number of hours needed to prepare the information collection including number of respondents, frequency of response, hours of response, and cost of response time: Based on the below assumptions and tables, we calculate the total burden hours for this study to be 130 hours and the total cost to be $8,267.10.

Whereas the interviewees from the TA providers will be program-level directors and managers responsible for general program operations, including formulating and implementing policies, managing daily operations and planning and executing the use of program resources, we estimated their cost per interview using the most recent (May 2017) Bureau of Labor Statistics, Occupational Employment Statistics median hourly wage for the labor category General and Operations Managers (11-1021): $48.27.

Whereas the interviewees from TA customers are most likely to be directors of their agency or organization which receives and manages HUD funds and seeks TA from HUD to improve their work, we estimated their cost per interview using the most recent (May 2017) Bureau of Labor Statistics, Occupational Employment Statistics median hourly wage for the labor category Chief Executives (11-1011): $88.11.

Respondent | Occupation | SOC Code | Median hourly wage rate
TA Provider | General and Operations Managers | 11-1021 | $48.27
TA Customer | Chief Executives | 11-1011 | $88.11
Source: Bureau of Labor Statistics, Occupational Employment Statistics (May 2017), https://www.bls.gov/oes/current/oes_stru.htm.

The table below reflects all assumptions about respondent numbers and frequency, burden hour estimates for scheduling and participating in the data collection interview, and cost.

Respondent | Number of respondents | Response frequency | Burden hours per response | Annual burden hours | Hourly cost per response | Total cost
TA Provider | 40 | 1 | 2 | 80 | $48.27 | $3,861.60
TA Customer | 25 | 1 | 2 | 50 | 88.11 | $4,405.50
Total | 65 | 1 | — | 130 | — | $8,267.10

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 21, 2018.
Anna P. Guido,
Department Reports Management Officer, Office of the Chief Information Officer.

[FR Doc. 2019-01713 Filed 2-8-19; 8:45 am]

BILLING CODE 4210-67-P